DEPARTMENT OF COMMERCE

Foreign-Trade Zones Board

[B-72-2018]

Foreign-Trade Zone (FTZ) 122—Corpus Christi, Texas; Notification of Proposed Production Activity; Gulf Coast Growth Ventures LLC; (Ethylene, Polyethylene and Monoethylene Glycol and Related Co-Products); San Patricio County, Texas

The Port of Corpus Christi Authority, grantee of FTZ 122, submitted a notification of proposed production activity to the FTZ Board on behalf of Gulf Coast Growth Ventures LLC (GCGV), at sites located in San Patricio County, Texas. The notification conforming to the requirements of the regulations of the FTZ Board (15 CFR 400.22) was received on November 1, 2018.

The applicant has submitted a separate application for FTZ designation at the GCGV sites under FTZ 122 (B-59-2018). The facilities (currently proposed for construction) will be used for the production of ethylene, polyethylene and monoethylene glycol and related co-products. Pursuant to 15 CFR 400.14(b), FTZ activity would be limited to the specific foreign-status materials and components and specific finished products described in the submitted notification (as described below) and subsequently authorized by the FTZ Board.

Production under FTZ procedures could exempt GCGV from customs duty payments on the foreign-status components used in export production. On its domestic sales, for the foreign-status materials/components noted below, GCGV would be able to choose the duty rates during customs entry procedures that apply to: Ethylene; polyethylene; monoethylene glycol; dilute propylene; crude C4; pyrolysis gasoline; fuel oil; spent caustic; heavy glycol; and, glycol bleed (duty rates range from duty-free to 5.25 cents/barrel to 6.5%). GCGV would be able to avoid duty on foreign-status components which become scrap/waste. Customs duties also could possibly be deferred or reduced on foreign-status production equipment.

The components and materials sourced from abroad include: Butene; hexene; furnace selective catalyst reduction catalyst; front end acetylene converter catalyst; and, molecular sieve desiccant (duty free). The request indicates that certain materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary at the address below. The closing period for their receipt is December 26, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Diane Finver at Diane.Finver@trade.gov or (202) 482-1367.

Dated: November 9, 2018.
Elizabeth Whiteman,
Acting Executive Secretary.

[FR Doc. 2018-25061 Filed 11-15-18; 8:45 am]

BILLING CODE 3510-DS-P